DEPARTMENT OF LABOR

Employment and Training Administration

[TA-W-58,828]

Motorola, Inc., Integrated Supply Chain, Fort Worth, TX; Notice of Termination of Investigation

Pursuant to section 221 of the Trade Act of 1974, as amended, an investigation was initiated on February 10, 2006 in response to a worker petition filed by a company official on behalf of workers at Motorola, Inc., Integrated supply chain, Fort Worth, Texas.

The petitioning group of workers is covered by a petition (TA-W-58,852) filed on February 16, 2006 that is the subject of an ongoing investigation for which a determination has not yet been issued. Further investigation in this case would duplicate efforts and serve no purpose; therefore the investigation under this petition has been terminated.

Signed at Washington, DC, this 6th day of March 2006.
Richard Church,
Certifying Officer, Division of Trade Adjustment Assistance.

[FR Doc. E6-4289 Filed 3-23-06; 8:45 am]

BILLING CODE 4510-30-P